DEPARTMENT OF TRANSPORTATION

Federal Aviation Administration

14 CFR Parts 61, 63, 65, 121, and 135

[Docket No. FAA-2005-20750; Amendment Nos. 61-112, 63-33, 65-46, 121-313, 135-99]

RIN 2120-AI59

Advanced Qualification Program

AGENCY: Federal Aviation Administration (FAA), DOT.

ACTION: Final rule.

SUMMARY: This action codifies the requirements of the Advanced Qualification Program (AQP). Currently, the AQP requirements are in a Special Federal Aviation Regulation that expires on October 2, 2005. The AQP will continue as an alternative regulatory program for airlines seeking more flexibility in training than the traditional training program allows. The intended effect of this rule is to codify the AQP as a permanent, alternative method of compliance with the FAA's training requirements for carriers.

DATES: This action is effective October 3, 2005.

FOR FURTHER INFORMATION CONTACT: Thomas M. Longridge, AFS-230, Air Transportation Division, Flight Standards Service, Federal Aviation Administration, P.O. Box 20027, Dulles International Airport, Washington, DC 20041-2027; telephone (703) 661-0260; e-mail: thomas.longridge@faa.gov. For issues involving legal interpretation of the regulation, contact Joe Conte, AGC-200, Regulations Division, Office of the Chief Counsel, 800 Independence Ave., SW., 20591; telephone (202) 267-3073; e-mail: joe.conte@faa.gov.

SUPPLEMENTARY INFORMATION:

Availability of Rulemaking Documents

You can get an electronic copy using the Internet by:

(1) Searching the Department of Transportation's electronic Docket Management System (DMS) Web page (http://dms.dot.gov/search);

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue SW., Washington, DC 20591, or by calling (202) 267-9680. Make sure to identify the amendment number or docket number of this rulemaking.

Small Business Regulatory Enforcement Fairness Act

The Small Business Regulatory Enforcement Fairness Act (SBREFA) of 1996 requires the FAA to comply with small entity requests for information or advice about compliance with statutes and regulations within its jurisdiction. If you are a small entity and you have a question regarding this document, you may contact its local FAA official, or the person listed under FOR FURTHER INFORMATION CONTACT. You can find out more about SBREFA on the Internet at http://www.faa.gov/regulations_policies/rulemaking/sbre_act/.

Authority for This Rulemaking

The FAA's authority to issue rules about aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, General requirements. Under that section, the FAA is charged with promoting the safe flight of civil aircraft in air commerce by prescribing regulations and minimum standards for other practices, methods, and procedures the Administrator finds necessary for safety in air commerce and national security. This regulation is within the scope of that authority since it permanently codifies the current requirements and practices of a regulatory compliance option for the training and qualification of aircrew personnel, and represents the FAA's continuing efforts to promote aviation safety.

Background

This final rule codifies the requirements of the AQP that are in Special Federal Aviation Regulation (SFAR) No. 58, which expires on October 2, 2005. The AQP improves flight crewmember performance by providing alternative means of compliance with certain rules and promotes the innovative use of modern technology for flight crewmember training. The AQP will continue as an alternative to the traditional training program for airlines seeking more flexibility in training than the traditional program allows.

On March 30, 2005, the FAA published a notice of proposed rulemaking (NPRM), “Advanced Qualification Program” (70 FR 16370). In the NPRM, the FAA included a detailed history of the development of the AQP. We also discussed a recommendation from the National Transportation Safety Board and recommendations from a Joint Government-Industry Task Force on flight crew performance.

The FAA received five comments on the proposed rule. Industry commenters included the Air Line Pilots Association International (ALPA), Air Transport Association (ATA), Alteon Training LLC (Alteon), American Airlines (American), and the Regional Airline Association (RAA). The commenters supported the AQP and the FAA's proposal to relocate the regulations currently found in SFAR No. 58 to 14 CFR part 121, although they had specific suggestions to revise the proposed language.

General Discussion of Comments

RAA believed establishing and maintaining an AQP requires excessive time and resources. ALPA emphasized the need to maintain an approval process administered by a national regulatory office. ALPA also submitted seven general “Statements of Position” about the AQP and suggested that these comments be incorporated to ensure flight crewmembers receive equal or higher quality training than the training under 14 CFR part 121, subparts N and O. The substance of each statement of position is generally addressed through existing AQP advisory and guidance material, and will not be discussed further in this document. Likewise, the FAA has made minor editorial and clarifying changes to the rule language that will not be discussed further.

American suggested using more inclusive terms to make the rule applicable to dispatchers, flight attendants, and other operations personnel. American further asserted that Aircrew Program Designee (APD) qualifications are the FAA's responsibility, not the certificate holder's responsibility. The carrier believed that the discussion in the NPRM implies that the responsibility would be borne by the certificate holder rather than the FAA.

The FAA recognizes the AQP may not be appropriate for every certificate holder. The AQP is a voluntary program that entails a strong commitment from the air carrier to exceed minimum training standards in the greater interest of safety. The AQP was established to allow a greater degree of regulatory flexibility in the approval of innovative training programs. Based on a documented analysis of operational requirements, a certificate holder under AQP may propose to depart from traditional practices with respect to what, how, when, and where training and testing is conducted. Detailed AQP documentation requirements, data collection, and analysis provide the FAA and the operator the tools necessary to monitor and administer adequately an AQP.

The FAA plans to maintain the current AQP approval process as indicated by § 121.909, Approval of Advanced Qualification Program. The process includes program review by both the National program office and the local FAA office responsible for approval of the certificate holder's operations specifications.

The FAA acknowledges that part of the responsibility for APD training resides with the FAA. However, the APD still must maintain all qualifications required of the duty position including crew or dispatch qualifications. The prohibition against using a person in operations under this part who has not accomplished the required training and evaluation also would extend to an APD.

The FAA has changed several sections to ensure the AQP is applicable to dispatchers, flight attendants, and other operations personnel. For example, the FAA replaced “flight instructor” with the more inclusive “instructor” where appropriate. In § 121.919, the FAA replaced “airmen competence” with “crewmember or dispatcher competence.”

Confidential Information and Data Collection Requirements (§§ 121.905 and 121.917)

This rule provides a procedure for carriers using AQP to request confidential treatment of data, submitted in accordance with § 121.917(c), at the time the submission is made. While this mechanism does not create any new protections for the carriers, it reduces the risk of an inadvertent disclosure of confidential business information by the FAA by providing a procedure for claiming protection under an existing Freedom of Information Act exemption.

American stated that justification for confidential treatment of the data information required by proposed § 121.917(c) that is attached to each submission is redundant, and suggested justification be required only with the initial submission. RAA, ALPA, American, and ATA also commented about the data collection requirements. ALPA stated that while the intent of the proposal is to protect the confidentiality of the training organization by submitting confidential performance data, there is no assurance that performance data of an individual pilot is protected or confidential. ALPA does support the collection of the required de-identified data since the AQP analysis requires sensitive grading scales beyond the traditional pass-fail binary scale.

American recommended excluding instructors and evaluators for the data collection process and adding dispatchers.

The rule language provides the maximum protection for the submitted information and is not redundant. A request is required for each submission to protect against inadvertent disclosures. AQP data collection is required for all AQP curriculums as defined by each carrier's approved AQP data collection and analysis section of the certificate holder's Implementation & Operations Plan (I&O Plan). Data collection requirements for the AQP will vary with the curriculum, the type of curriculum activity (training, validation, or evaluation), the type of participant (crewmember, instructor, or evaluator), and the overall management objectives for use of the data. The FAA has established the minimal requirements for submitting de-identified data by curriculum.

The data requirements set forth in § 121.917(c), which must be submitted to the FAA for analysis and validation, is without names or other elements that would identify an individual or group of individuals. The information is analyzed to monitor the effectiveness of AQP training, not to monitor individual crewmember, dispatcher, or other operations personnel. Instructor/Evaluator specific data are limited to their grading decisions. The FAA data provisions do not require participants to identify Instructors/Evaluators when they are being evaluated as crewmembers, dispatchers, or other operations personnel. Dispatchers and other operations personnel will be added to the data collection requirements. We note, however, that AQP participants still must comply with the record keeping requirements set forth in § 121.925, discussed below.

Definitions (§ 121.907)

ALPA stated the wording in the definition of “Line operational evaluation (LOE)” leads the reader to believe the purpose of the LOE is to evaluate Crew Resource Management (CRM) and technical skills. ALPA was opposed to any evaluation that is not based on well-defined qualification standards of technical proficiency. ALPA is not opposed to qualification standards that specify CRM or Dispatcher Resource Management (DRM) tasks that are technical in nature and easily measured. ALPA also noted the difficulty of training instructors and evaluators to assess CRM performance on an objective scale in a consistent manner.

The intent of an LOE is to evaluate and verify that an individual's job knowledge, technical skills, and resource management skills are commensurate with AQP qualification standards. Training of resource management is mandatory. A means of evaluating the effectiveness of such training is also mandatory, but pass/fail standards for resource management competency are not required. Applicant-developed evaluation strategies must at least include provisions for assessing the extent to which poor resource management skills are a contributory factor in a failure to meet technical standards of operational performance in validations and evaluations.

Each AQP (including provisional AQP curriculums for training centers) must provide instructor and evaluator indoctrination, qualification, and continuing qualification curriculums. These requirements include a separate job task analysis, qualification standards, curriculum(s), and curriculum outlines focusing on the instructor/evaluator duty positions. The program must define the minimum requirements each category of instructor/evaluator will accomplish to stay current. All instructors and evaluators will receive instruction and evaluation in resource management objectives and training methods. Also, a standardization program is required to establish uniform grading criteria, address reliability between instructors/evaluators, and develop remediation procedures.

Qualification Curriculum (§ 121.913)

The AQP requires each participant to use an instruction system design methodology to develop every AQP curriculum. These methodologies require that users translate tasks into terminal proficiency objectives and subtasks into supporting proficiency objectives. The user then must measure student performance against proficiency objectives and qualification standards for all curriculums. American recommended replacing “task” with “objective” throughout the rule. American observed the AQP job task analysis includes tasks and subtasks, but training under AQP is based on terminal and supporting proficiency objectives. In the final rule where appropriate, we replaced “flight task/task” with “proficiency objective.”

Continuing Qualification Curriculum (§ 121.915)

Each AQP participant is required to develop a continuing qualification curriculum to ensure that during each qualification cycle, each person qualified under an AQP, including instructors and evaluators, will receive a mix of training and evaluation on all events and subjects necessary to maintain proficiency. American recommends rewording § 121.915(a)(1), Evaluation Period, to remove “ground and flight” and adding “or via a methodology approved by the FAA.” American suggests that the new sentence read: “Each person qualified under an AQP must receive training and an evaluation of proficiency during each evaluation period at a training facility or via a methodology approved by the FAA.” American also contends that § 121.915(a)(1) requiring flight training may exclude dispatchers, and requiring that all ground training be conducted at a training facility excludes the use of distributed training methods.

American also believes the rule should state a line check must be completed during each evaluation period instead of specifying “in the calendar month at the midpoint of the evaluation period.” The carrier suggested scheduling a line check to occur in a specific month for each certificate holder's PIC is an onerous and unnecessary scheduling task for most carriers that goes beyond the annual line check requirements of § 121.440(a). American asserted the no-notice line check paragraph implies that these line checks should be complete surprises. It pointed out that, while carriers may not “notify” crewmembers before an impending line check, the checks are not surprises.

The FAA has changed § 121.915(a)(1) to read, in pertinent part, “to receive ground and flight training (as appropriate) and an evaluation of proficiency during each evaluation period at a training facility.” This is similar to the language that appeared in SFAR 58: “To receive a training session and an evaluation of proficiency during each evaluation period at a training facility.” The requirement does not preclude the use of distributed training as long as the distributed training methodology has been approved as part of the AQP curriculum. Section 121.915(a) refers to the continuing qualification cycle whereas § 121.915(a)(1) refers to the evaluation period. The initial approval for a continuing qualification cycle is no more than 24 months in duration, divided into two 12-month evaluation periods. All critical proficiency objectives are accomplished during each evaluation period. Critical tasks are proficiency objectives that are trained, validated, or evaluated more often during an AQP. Each evaluation period must include at least one training session, but may include more. Initially, training sessions cannot be more than 12 months (plus or minus one month) apart. Also a proficiency evaluation must be completed during each evaluation period. The strategies employed for training and the facilities used by participants are approved as part of the AQP.

The language regarding line checks is consistent with existing exemptions that have been granted to some AQP certificate holders to allow a longer period between line checks in exchange for such no-notice line checks. The no-notice feature of the random line check procedure provides evaluators with an increased opportunity to observe typical behavior, and the requirement for conducting such checks over all geographic routes better assures such information is representative of performance over the airline's entire operation.

Language in exemptions from the random line check requirement plainly says the FAA expects the line check to be no-notice. These exemptions state that “FAA finds that this relief provides an equivalent level of safety by virtue of addressing the operational line performance of the entire crew, rather than only the pilot-in-command. The FAA further finds that conducting line checks on a no-notice, randomly administered basis should enhance their utility as an overall gauge of operational safety.”

The FAA recognizes the pilot-in-command (PIC) will review the flight paperwork and will have some very short-term prior knowledge of the line check (because of security concerns, weight and balance issues, and scheduling requirements). However, we expect that in the time prior to the PIC receiving the flight paperwork about the line check flight, the AQP participant will have maintained the random no-notice requirement.

Certification (§ 121.919)

The rule describes the means by which a person subject to an AQP is eligible to receive a commercial or airline transport pilot, flight engineer, or aircraft dispatcher certificate or appropriate rating based on the successful completion of AQP training. American observed that § 121.919(c) refers to LOE scenarios as an exclusive measure of competence. They noted an AQP for dispatchers would be required to incorporate an operational scenario, the scenario probably would not be termed an LOE. American recommended changing wording from “knowledge and skills in scenarios (i.e., LOE)” to “knowledge and skills in operational scenarios (i.e., LOE for crewmembers).”

American also observed that § 121.919(e) lists the types of instructors and evaluators who can certify training of applicants and requires applicants to pass an LOE. They noted the list of instructors does not include dispatch instructor and the paragraph does not allow for other types of operational evaluations for dispatchers. They recommend changing the wording to read, “* * * as witnessed by an instructor, check airman, or APD, as appropriate for the duty position, and has passed an operational evaluation (i.e., LOE for crewmembers).”

The concept and term LOE applies equally to all personnel covered under an AQP. Evaluation of proficiency is defined as an LOE or equivalent evaluation under an AQP acceptable to the FAA. We changed § 121.919 to be inclusive of other positions (including dispatchers).

Approval of Training, Qualification, or Evaluation by a Person Who Provided Training by Arrangement (§ 121.923)

The rule sets forth the conditions for a certificate holder under part 121 or part 135 to arrange for AQP training by a separate training provider. Alteon objected to provisional approval for AQP training providers and suggested that §§ 121.923(a) and (b) be rewritten. Alteon further stated the specific use of provisionally approved curriculums, curriculum segments, or portions of curriculum segments in a training provider's AQP should be approved by the FAA.

In § 121.923, provisional approval is meant to allow a training center to develop and market an AQP that could be tailored by contracting participants to meet their particular needs. The major difference between developing an AQP by a training center and by an air carrier is the training center can develop generic AQP documentation and individual curriculum segments. This documentation is given a provisional approval. A provisional AQP allows a training center to accomplish front-end AQP development and to offer its services as an approved AQP provider before establishing a contract or other arrangements with a specific certificate holder.

Recordkeeping Requirements (§ 121.925)

Like traditional training programs under part 121 and part 135, the AQP requires that each certificate holder conducting an approved AQP establish and maintain records in sufficient detail to demonstrate that the certificate holder is in compliance with all AQP requirements. ALPA believes AQP training and checking records maintained by a company should not contain more data that is accessible through the Pilot Records Improvement Act (PRIA) than it would under traditional programs. The regulatory language to that end should be identical.

The recordkeeping process in AQP does not differ from traditional recordkeeping requirements. The intent of § 121.925, Recordkeeping, is that AQP participants may maintain a record keeping system based on the standard 14 CFR part 121 or 135 (i.e., § 121.683), recordkeeping requirements. Section 121.925, Recordkeeping, is based on existing SFAR No. 58, section 12, with no substantive changes. Individual recordkeeping by certificate holders is needed to show whether each crewmember, aircraft dispatcher, or other operations personnel is in compliance with the AQP and subpart Y. Thus, for example, under an AQP, if a pilot is identified for augmented training, the satisfactory or unsatisfactory completion of that training and the date must be recorded and maintained in the carrier's training records for that pilot. The recordkeeping requirement of § 121.925 is a separate function from the data collected and analyzed under the requirements of § 121.917(c).

International Compatibility

In keeping with U.S. obligations under the Convention on International Civil Aviation, it is FAA policy to comply with International Civil Aviation Organization (ICAO) Standards and Recommended Practices to the maximum extent practicable. The FAA has determined there are no ICAO Standards and Recommended Practices that correspond to these proposed regulations.

Paperwork Reduction Act

According to the 1995 amendments to the Paperwork Reduction Act (5 CFR 1320.8(b)(2)(vi)), an agency may not collect or sponsor collecting information, nor may it impose an information collection requirement unless it displays a currently valid OMB control number.

This proposal contains the following new information collection requirements. As required by the Paperwork Reduction Act of 1995 (44 U.S.C. 3507(d)), the FAA has submitted the information requirements associated with this final rule to the Office of Management and Budget for its review. The OMB control number assigned to this collection of information is 2120-0701.

Summary: AQP is an existing rule and the data required by that rule is currently being submitted to the Agency. Data collection and analysis of data is a fundamental part of AQP. AQP is continuously validated through collecting and analyzing trainee performance. Data collection and analysis processes ensure the certificate holder provides performance information on its crewmembers, instructors, and evaluators that will enable the certificate holder and the FAA to determine whether the form and content of training and evaluation activities are satisfactorily accomplishing the overall objectives of the curriculum.

Use of: The Voluntary Safety Programs Branch, AFS-230, receives the AQP data monthly to monitor program compliance, effectiveness, and efficiency. AFS-230 processes the information for errors and omissions then analyzes the data. The FAA principal operations inspector (POI) responsible for oversight of the certificate holder reviews the analyzed data. The POI and his staff make use of this information to monitor training trends, to identify areas in need of corrective action, to plan targeted surveillance of curriculums, and to verify that corrective action is effective. In general, this information is used to provide an improved basis for curriculum approval and monitoring, as well as agency decisions about air carrier training regulation and policy.

Respondents (including number of): The likely respondents to this proposed data collection requirement are 16 airlines and 2 manufacturers.

Frequency: The frequency of data collection is monthly.

Annual Burden Estimate: Affected firms already incur annual recordkeeping and reporting burden as follows:

• Number of respondents with approved AQPs: 18

• Frequency of response per respondent: Monthly.

• Estimated number of hours per respondent to prepare information to be submitted to the FAA: 2.0

• Estimated annual hour burden per respondent: 24

• Total estimated hours of industry burden: 432

The estimated 2-hour burden is the time required to transform the data already produced monthly by the certificate holder as part of an approved AQP into the appropriate form for use by the FAA.

Currently sixteen airlines and two manufacturers have voluntarily established AQP programs. However, not all the participants' aircraft fleet types (personnel) are covered by an AQP. Based on a cost-benefit study from certificate holders with existing AQP programs, the average cost of an AQP analyst is $60 per hour. Therefore, the cost of this burden is:

• Industry per annum (432 hours)—$25,920

• Each participant per annum (24 hours)—$1440

Regulatory Analyses

Final rules to Federal regulations must undergo several economic analyses. First, Executive Order 12866 directs that each Federal agency shall propose or adopt a regulation only upon a reasoned determination that the benefits of the intended regulation justify its costs. Second, the Regulatory Flexibility Act of 1980 (RFA), codified at 5 U.S.C. 601-611, requires agencies to analyze the economic impact of regulatory changes on small entities. Third, the Trade Agreements Act (19 U.S.C. 2531-2533) prohibits agencies from setting standards that create unnecessary obstacles to the foreign commerce of the United States. In developing U.S. standards, this Trade Act requires agencies to consider international standards and, where appropriate, that they be the basis for U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation.)

The Department of Transportation Order DOT 2100.5 prescribes policies and procedures for simplification, analysis, and review of regulations. If it is determined the expected cost impact is so minimal that a proposal does not warrant a full evaluation, this order allows a statement to that effect, and the basis for it, to be included in the preamble. In this case, a full regulatory evaluation cost-benefit evaluation need not be prepared. Such a determination has been made for this rule.

This final rule will make permanent the AQP, an existing temporary regulatory alternative for operators to comply with carrier training requirements. The AQP is not mandatory. It is left up to the discretion of the individual certificate holder as to whether to adopt the AQP or not. The FAA assumes that certificate holders will do so only if it improves their training effectiveness and safety or is otherwise in their economic interest. In the NPRM, the FAA stated that it expected the outcome will have a minimal impact, and a regulatory evaluation was not prepared. The FAA also solicited comments in that NPRM from the aviation community about the FAA determination of minimal impact. The FAA received no comments to this effect. Therefore, the FAA still expects that this rule will not impose any additional net cost burden on the industry.

Regulatory Flexibility Determination

The RFA establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions. The RFA covers a wide-range of small entities, including small businesses, not-for-profit organizations and small governmental jurisdictions.

Agencies must perform a review to determine whether a proposed or final rule will have a significant economic impact on a substantial number of small entities. If the agency determines that it will, the agency must prepare a regulatory flexibility analysis as described in the RFA.

However, if an agency determines that a proposed or final rule is not expected to have a significant economic impact on a substantial number of small entities, section 605(b) of the RFA provides the head of the agency may so certify and a regulatory flexibility analysis is not required. The certification must include a statement providing the factual basis for this determination, and the reasoning should be clear.

Because the rule is voluntary and thus will not impose compliance costs, the FAA Administrator certifies the rule will not have a significant economic impact on a substantial number of small air carriers. We solicited comments and received none.

Trade Impact Assessment

The Trade Agreements Act of 1979 prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this final rule and determined that it will have only a domestic impact and therefore no effect on any trade-sensitive activity.

Unfunded Mandates Reform Act

The Unfunded Mandates Reform Act of 1995 (the Act), enacted as Public Law 104-4 on March 22, 1995, is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $120.7 million instead of $100 million.

This final rule does not contain such a mandate. The requirements of Title II do not apply.

Executive Order 13132, Federalism

The FAA has analyzed this final rule under the principles and criteria of Executive Order 13132, Federalism. We have determined that this action will not have a substantial direct effect on the States, or the relationship between the National Government and the States, or on the distribution of power and responsibilities among the various levels of government. Therefore, we have determined that this final rule does not have federalism implications.

Environmental Analysis

FAA Order 1050.1E identifies FAA actions that are categorically excluded from preparation of an environmental assessment or environmental impact statement under the National Environmental Policy Act in the absence of extraordinary circumstances. The FAA has determined this rulemaking action qualifies for the categorical exclusion identified in paragraph 312f and involves no extraordinary circumstances.

Regulations That Significantly Affect Energy Supply, Distribution, or Use

The FAA has analyzed this final rule under Executive Order 13211, Actions Concerning Regulations that Significantly Affect Energy Supply, Distribution, or Use (66 FR 28355, May 18, 2001). We have determined that it is not a “significant energy action” under the executive order, because it is not a “significant regulatory action” under Executive Order 12866, and it is not likely to have a significant adverse effect on the supply, distribution, or use of energy.

List of Subjects

14 CFR Part 61

Air safety, Air transportation, Aviation safety, Safety.

14 CFR Part 63

Air safety, Air transportation, Airmen, Aviation safety, Safety, Transportation.

14 CFR Part 65

Airmen, Aviation safety, Air transportation, Aircraft.

14 CFR Part 121

Aircraft pilots, Airmen, Aviation safety, Pilots, Safety.

14 CFR Part 135

Air carriers, Air transportation, Airmen, Aviation safety, Safety, Pilots.

The Amendment

The Federal Aviation Administration is amending parts 61, 63, 65, 121, and 135 of Title 14, Code of Federal Regulations (14 CFR parts 61, 63, 65, 121 and 135) as follows:

PART 61—CERTIFICATION: PILOTS, FLIGHT INSTRUCTORS, AND GROUND INSTRUCTORS

1. The authority citation for part 61 continues to read as follows:

Authority: 49 U.S.C. 106(g), 40113, 44701-44703, 44707, 44709-44711, 45102-45103, 45301-45302.

SFAR No. 58 [Removed]

2. Remove SFAR No, 58 from part 61.

§ 61.58 [Amended]

3. Amend § 61.58(b) by removing “SFAR 58” and adding “subpart Y of part 121 of this chapter” in its place.

PART 63—CERTIFICATION: FLIGHT CREWMEMBERS OTHER THAN PILOTS

4. The authority citation for part 63 continues to read as follows:

Authority: 49 U.S.C. 106(g), 40108, 40113, 44701-44703, 44710, 44712, 44714, 44716, 44717, 44722, 45303.

SFAR No. 58 [Removed]

5. Remove SFAR No. 58 from part 63.

PART 63—[NOMENCLATURE CHANGE]

6. Amend part 63 by removing “SFAR 58” and adding “subpart Y of part 121 of this chapter” in its place wherever it occurs in the part.

PART 65—CERTIFICATION: AIRMEN OTHER THAN FLIGHT CREWMEMBERS

7. The authority citation for part 65 continues to read as follows:

Authority: 49 U.S.C. 106(g), 40113, 44701-44703, 44707, 44709-44711, 45102-45103, 45301-45302.

SFAR No. 58 [Removed]

8. Remove SFAR No. 58 from part 65.

PART 65—[NOMENCLATURE CHANGE]

9. Amend part 65 by removing “SFAR 58” and adding “subpart Y of part 121 of this chapter” in its place wherever it occurs in the part.

PART 121—OPERATING REQUIREMENTS: DOMESTIC, FLAG, AND SUPPLEMENTAL OPERATIONS

10. The authority citation for part 121 continues to read as follows:

Authority: 49 U.S.C. 106(g), 40113, 40119, 41706, 44101, 44701-44702, 44705, 44709-44711, 44713, 44716-44717, 44722, 44901, 44903-44904, 44912, 45101-45105, 46105, 46301.

SFAR No. 58 [Removed]

11. Remove Special Federal Aviation Regulation (SFAR) No. 58.—Advanced Qualification Program from part 121.

12. Add subpart Y to read as follows:

Subpart Y—Advanced Qualification Program
Sec.
121.901 Purpose and eligibility.
121.903 General requirements for Advanced Qualification Programs.
121.905 Confidential commercial information
121.907 Definitions.
121.909 Approval of Advanced Qualification Program.
121.911 Indoctrination curriculum.
121.913 Qualification curriculum.
121.915 Continuing qualification curriculum.
121.917 Other requirements.
121.919 Certification.
121.921 Training devices and simulators.
121.923 Approval of training, qualification, or evaluation by a person who provides training by arrangement.
121.925 Recordkeeping requirements.

Subpart Y—Avanced Qualification Program

§ 121.901 Purpose and eligibility.

(a) Contrary provisions of parts 61, 63, 65, 121, 135, and 142 of this chapter notwithstanding, this subpart provides for approval of an alternative method (known as “Advanced Qualification Program” or “AQP”) for qualifying, training, certifying, and otherwise ensuring competency of crewmembers, aircraft dispatchers, other operations personnel, instructors, and evaluators who are required to be trained under parts 121 and 135 of this chapter.

(b) A certificate holder is eligible under this subpart if the certificate holder is required or elects to have an approved training program under §§ 121.401, 135.3(c), or 135.341 of this chapter.

(c) A certificate holder obtains approval of each proposed curriculum under this AQP as specified in § 121.909.

§ 121.903 General requirements for Advanced Qualification Programs.

(a) A curriculum approved under an AQP may include elements of existing training programs under part 121 and part 135 of this chapter. Each curriculum must specify the make, model, series or variant of aircraft and each crewmember position or other positions to be covered by that curriculum. Positions to be covered by the AQP must include all flight crewmember positions, flight instructors, and evaluators and may include other positions, such as flight attendants, aircraft dispatchers, and other operations personnel.

(b) Each certificate holder that obtains approval of an AQP under this subpart must comply with all the requirements of the AQP and this subpart instead of the corresponding provisions of parts 61, 63, 65, 121, or 135 of this chapter. However, each applicable requirement of parts 61, 63, 65, 121, or 135 of this chapter, including but not limited to practical test requirements, that is not specifically addressed in the AQP continues to apply to the certificate holder and to the individuals being trained and qualified by the certificate holder. No person may be trained under an AQP unless that AQP has been approved by the FAA and the person complies with all the requirements of the AQP and this subpart.

(c) No certificate holder that conducts its training program under this subpart may use any person nor may any person serve in any duty position as a required crewmember, an aircraft dispatcher, an instructor, or an evaluator, unless that person has satisfactorily accomplished, in a training program approved under this subpart for the certificate holder, the training and evaluation of proficiency required by the AQP for that type airplane and duty position.

(d) All documentation and data required under this subpart must be submitted in a form and manner acceptable to the FAA.

(e) Any training or evaluation required under an AQP that is satisfactorily completed in the calendar month before or the calendar month after the calendar month in which it is due is considered to have been completed in the calendar month it was due.

§ 121.905 Confidential commercial information.

(a) Each certificate holder that claims that AQP information or data it is submitting to the FAA is entitled to confidential treatment under 5 U.S.C. 552(b)(4) because it constitutes confidential commercial information as described in 5 U.S.C. 552(b)(4), and should be withheld from public disclosure, must include its request for confidentiality with each submission.

(b) When requesting confidentiality for submitted information or data, the certificate holder must:

(1) If the information or data is transmitted electronically, embed the claim of confidentiality within the electronic record so the portions claimed to be confidential are readily apparent when received and reviewed.

(2) If the information or data is submitted in paper format, place the word “CONFIDENTIAL” on the top of each page containing information or data claimed to be confidential.

(3) Justify the basis for a claim of confidentiality under 5 U.S.C. 552(b)(4).

§ 121.907 Definitions.

The following definitions apply to this subpart:

Crew Resource Management (CRM) means the effective use of all the resources available to crewmembers, including each other, to achieve a safe and efficient flight.

Curriculum outline means a listing of each segment, module, lesson, and lesson element in a curriculum, or an equivalent listing acceptable to the FAA.

Evaluation of proficiency means a Line Operational Evaluation (LOE) or an equivalent evaluation under an AQP acceptable to the FAA.

Evaluator means a person who assesses or judges the performance of crewmembers, instructors, other evaluators, aircraft dispatchers, or other operations personnel.

First Look means the assessment of performance to determine proficiency on designated flight tasks before any briefing, training, or practice on those tasks is given in the training session for a continuing qualification curriculum. First Look is conducted during an AQP continuing qualification cycle to determine trends of degraded proficiency, if any, due in part to the length of the interval between training sessions.

Instructional systems development means a systematic methodology for developing or modifying qualification standards and associated curriculum content based on a documented analysis of the job tasks, skills, and knowledge required for job proficiency.

Job task listing means a listing of all tasks, subtasks, knowledge, and skills required for accomplishing the operational job.

Line Operational Evaluation (LOE) means a simulated line environment, the scenario content of which is designed to test integrating technical and CRM skills.

Line Operational Simulation (LOS) means a training or evaluation session, as applicable, that is conducted in a simulated line environment using equipment qualified and approved for its intended purpose in an AQP.

Planned hours means the estimated amount of time (as specified in a curriculum outline) that it takes a typical student to complete a segment of instruction (to include all instruction, demonstration, practice, and evaluation, as appropriate, to reach proficiency).

Qualification standard means a statement of a minimum required performance, applicable parameters, criteria, applicable flight conditions, evaluation strategy, evaluation media, and applicable document references.

Qualification standards document means a single document containing all the qualification standards for an AQP together with a prologue that provides a detailed description of all facets of the evaluation process.

Special tracking means assigning a person to an augmented schedule of training, checking, or both.

Training session means a contiguously scheduled period devoted to training activities at a facility approved by the FAA for that purpose.

Variant means a specifically configured aircraft for which the FAA has identified training and qualifications that are significantly different from those applicable to other aircraft of the same make, model, and series.

§ 121.909 Approval of Advanced Qualification Program.

(a) Approval process. Application for approval of an AQP curriculum under this subpart is made, through the FAA office responsible for approval of the certificate holder's operations specifications, to the Manager of the Advanced Qualification Program.

(b) Approval criteria. Each AQP must have separate curriculums for indoctrination, qualification, and continuing qualification (including upgrade, transition, and requalification), as specified in §§ 121.911, 121.913, and 121.915. All AQP curriculums must be based on an instructional systems development methodology. This methodology must incorporate a thorough analysis of the certificate holder's operations, aircraft, line environment and job functions. All AQP qualification and continuing qualification curriculums must integrate the training and evaluation of CRM and technical skills and knowledge. An application for approval of an AQP curriculum may be approved if the program meets the following requirements:

(1) The program must meet all the requirements of this subpart.

(2) Each indoctrination, qualification, and continuing qualification AQP, and derivatives must include the following documentation:

(i) Initial application for AQP.

(ii) Initial job task listing.

(iii) Instructional systems development methodology.

(iv) Qualification standards document.

(v) Curriculum outline.

(vi) Implementation and operations plan.

(3) Subject to approval by the FAA, certificate holders may elect, where appropriate, to consolidate information about multiple programs within any of the documents referenced in paragraph (b)(2) of this section.

(4) The Qualification Standards Document must indicate specifically the requirements of the parts 61, 63, 65, 121, or 135 of this chapter, as applicable, that would be replaced by an AQP curriculum. If a practical test requirement of parts 61, 63, 65, 121, or 135 of this chapter is replaced by an AQP curriculum, the certificate holder must establish an initial justification and a continuing process approved by the FAA to show how the AQP curriculum provides an equivalent level of safety for each requirement that is to be replaced.

(c) Application and transition. Each certificate holder that applies for one or more advanced qualification curriculums must include as part of its application a proposed transition plan (containing a calendar of events) for moving from its present approved training to the advanced qualification program training.

(d) Advanced Qualification Program revisions or rescissions of approval. If after a certificate holder begins training and qualification under an AQP, the FAA finds the certificate holder is not meeting the provisions of its approved AQP, the FAA may require the certificate holder, pursuant to § 121.405(e), to make revisions. Or if otherwise warranted, the FAA may withdraw AQP approval and require the certificate holder to submit and obtain approval for a plan (containing a schedule of events) that the certificate holder must comply with and use to transition to an approved training program under subpart N of this part or under subpart H of part 135 of this chapter, as appropriate. The certificate holder may also voluntarily submit and obtain approval for a plan (containing a schedule of events) to transition to an approved training program under subpart N of this part or under subpart H of part 135 of this chapter, as appropriate.

(e) Approval by the FAA. Final approval of an AQP by the FAA indicates the FAA has accepted the justification provided under paragraph (b)(4) of this section and the applicant's initial justification and continuing process establish an equivalent level of safety for each requirement of parts 61, 63, 65, 121, and 135 of this chapter that is being replaced.

§ 121.911 Indoctrination curriculum.

Each indoctrination curriculum must include the following:

(a) For newly hired persons being trained under an AQP: The certificate holder's policies and operating practices and general operational knowledge.

(b) For newly hired crewmembers and aircraft dispatchers: General aeronautical knowledge appropriate to the duty position.

(c) For instructors: The fundamental principles of the teaching and learning process; methods and theories of instruction; and the knowledge necessary to use aircraft, flight training devices, flight simulators, and other training equipment in advanced qualification curriculums, as appropriate.

(d) For evaluators: General evaluation requirements of the AQP; methods of evaluating crewmembers and aircraft dispatchers and other operations personnel, as appropriate, and policies and practices used to conduct the kinds of evaluations particular to an AQP (e.g., LOE).

§ 121.913 Qualification curriculum.

Each qualification curriculum must contain training, evaluation, and certification activities, as applicable for specific positions subject to the AQP, as follows:

(a) The certificate holder's planned hours of training, evaluation, and supervised operating experience.

(b) For crewmembers, aircraft dispatchers, and other operations personnel, the following:

(1) Training, evaluation, and certification activities that are aircraft- and equipment-specific to qualify a person for a particular duty position on, or duties related to the operation of, a specific make, model, series, or variant aircraft.

(2) A list of and text describing the knowledge requirements, subject materials, job skills, and qualification standards of each proficiency objective to be trained and evaluated.

(3) The requirements of the certificate holder's approved AQP program that are in addition to or in place of, the requirements of parts 61, 63, 65, 121 or 135 of this chapter, including any applicable practical test requirements.

(4) A list of and text describing operating experience, evaluation/remediation strategies, provisions for special tracking, and how recency of experience requirements will be accomplished.

(c) For flight crewmembers: Initial operating experience and line check.

(d) For instructors, the following as appropriate:

(1) Training and evaluation activities to qualify a person to conduct instruction on how to operate, or on how to ensure the safe operation of a particular make, model, and series aircraft (or variant).

(2) A list of and text describing the knowledge requirements, subject materials, job skills, and qualification standards of each procedure and proficiency objective to be trained and evaluated.

(3) A list of and text describing evaluation/remediation strategies, standardization policies and recency requirements.

(e) For evaluators: The requirements of paragraph (d)(1) of this section plus the following, as appropriate:

(1) Training and evaluation activities that are aircraft and equipment specific to qualify a person to assess the performance of persons who operate or who ensure the safe operation of, a particular make, model, and series aircraft (or variant).

(2) A list of and text describing the knowledge requirements, subject materials, job skills, and qualification standards of each procedure and proficiency objective to be trained and evaluated.

(3) A list of and text describing evaluation/remediation strategies, standardization policies and recency requirements.

§ 121.915 Continuing qualification curriculum.

Each continuing qualification curriculum must contain training and evaluation activities, as applicable for specific positions subject to the AQP, as follows:

(a) Continuing qualification cycle. A continuing qualification cycle that ensures that during each cycle each person qualified under an AQP, including instructors and evaluators, will receive a mix that will ensure training and evaluation on all events and subjects necessary to ensure that each person maintains proficiency in knowledge, technical skills, and cognitive skills required for initial qualification in accordance with the approved continuing qualification AQP, evaluation/remediation strategies, and provisions for special tracking. Each continuing qualification cycle must include at least the following:

(1) Evaluation period. Initially the continuing qualification cycle is comprised of two or more evaluation periods of equal duration. Each person qualified under an AQP must receive ground training and flight training, as appropriate, and an evaluation of proficiency during each evaluation period at a training facility. The number and frequency of training sessions must be approved by the FAA.

(2) Training. Continuing qualification must include training in all tasks, procedures and subjects required in accordance with the approved program documentation, as follows:

(i) For pilots in command, seconds in command, and flight engineers, First Look in accordance with the certificate holder's FAA-approved program documentation.

(ii) For pilots in command, seconds in command, flight engineers, flight attendants, instructors and evaluators: Ground training including a general review of knowledge and skills covered in qualification training, updated information on newly developed procedures, and safety information.

(iii) For crewmembers, instructors, evaluators, and other operational personnel who conduct their duties in flight: Proficiency training in an aircraft, flight training device, flight simulator, or other equipment, as appropriate, on normal, abnormal, and emergency flight procedures and maneuvers.

(iv) For dispatchers and other operational personnel who do not conduct their duties in flight: ground training including a general review of knowledge and skills covered in qualification training, updated information on newly developed procedures, safety related information, and, if applicable, a line observation program.

(v) For instructors and evaluators: Proficiency training in the type flight training device or the type flight simulator, as appropriate, regarding training equipment operation. For instructors and evaluators who are limited to conducting their duties in flight simulators or flight training devices: Training in operational flight procedures and maneuvers (normal, abnormal, and emergency).

(b) Evaluation of performance. Continuing qualification must include evaluation of performance on a sample of those events and major subjects identified as diagnostic of competence and approved for that purpose by the FAA. The following evaluation requirements apply:

(1) Evaluation of proficiency as follows:

(i) For pilots in command, seconds in command, and flight engineers: An evaluation of proficiency, portions of which may be conducted in an aircraft, flight simulator, or flight training device as approved in the certificate holder's curriculum that must be completed during each evaluation period.

(ii) For any other persons covered by an AQP, a means to evaluate their proficiency in the performance of their duties in their assigned tasks in an operational setting.

(2) Line checks as follows:

(i) Except as provided in paragraph (b)(2)(ii) of this section, for pilots in command: A line check conducted in an aircraft during actual flight operations under part 121 or part 135 of this chapter or during operationally (line) oriented flights, such as ferry flights or proving flights. A line check must be completed in the calendar month at the midpoint of the evaluation period.

(ii) With the FAA's approval, a no-notice line check strategy may be used in lieu of the line check required by paragraph (b)(2)(i) of this section. The certificate holder who elects to exercise this option must ensure the “no-notice” line checks are administered so the flight crewmembers are not notified before the evaluation. In addition, the AQP certificate holder must ensure that each pilot in command receives at least one “no-notice” line check every 24 months. As a minimum, the number of “no-notice” line checks administered each calendar year must equal at least 50% of the certificate holder's pilot-in-command workforce in accordance with a strategy approved by the FAA for that purpose. In addition, the line checks to be conducted under this paragraph must be conducted over all geographic areas flown by the certificate holder in accordance with a sampling methodology approved by the FAA for that purpose.

(iii) During the line checks required under paragraph (b)(2)(i) and (ii) of this section, each person performing duties as a pilot in command, second in command, or flight engineer for that flight, must be individually evaluated to determine whether the person remains adequately trained and currently proficient with respect to the particular aircraft, crew position, and type of operation in which he or she serves; and the person has sufficient knowledge and skills to operate effectively as part of a crew. The evaluator must be a check airman, an APD, or an FAA inspector and must hold the certificates and ratings required of the pilot in command.

(c) Recency of experience. For pilots in command, seconds in command, flight engineers, aircraft dispatchers, instructors, evaluators, and flight attendants, approved recency of experience requirements appropriate to the duty position.

(d) Duration of cycles and periods. Initially, the continuing qualification cycle approved for an AQP must not exceed 24 calendar months in duration, and must include two or more evaluation periods of equal duration. After that, upon demonstration by a certificate holder that an extension is warranted, the FAA may approve an extension of the continuing qualification cycle to a maximum of 36 calendar months in duration.

(e) Requalification. Each continuing qualification curriculum must include a curriculum segment that covers the requirements for requalifying a crewmember, aircraft dispatcher, other operations personnel, instructor, or evaluator who has not maintained continuing qualification.

§ 121.917 Other requirements.

In addition to the requirements of §§ 121.913 and 121.915, each AQP qualification and continuing qualification curriculum must include the following requirements:

(a) Integrated Crew Resource Management (CRM) or Dispatcher Resource Management (DRM) ground and if appropriate flight training applicable to each position for which training is provided under an AQP.

(b) Approved training on and evaluation of skills and proficiency of each person being trained under AQP to use his or her resource management skills and his or her technical (piloting or other) skills in an actual or simulated operations scenario. For flight crewmembers this training and evaluation must be conducted in an approved flight training device, flight simulator, or, if approved under this subpart, in an aircraft.

(c) Data collection and analysis processes acceptable to the FAA that will ensure the certificate holder provides performance information on its crewmembers, dispatchers, instructors, evaluators, and other operations personnel that will enable the certificate holder and the FAA to determine whether the form and content of training and evaluation activities are satisfactorily accomplishing the overall objectives of the curriculum.

§ 121.919 Certification.

A person subject to an AQP is eligible to receive a commercial or airline transport pilot, flight engineer, or aircraft dispatcher certificate or appropriate rating based on the successful completion of training and evaluation events accomplished under that program if the following requirements are met:

(a) Training and evaluation of required knowledge and skills under the AQP must meet minimum certification and rating criteria established by the FAA in parts 61, 63, or 65 of this chapter. The FAA may approve alternatives to the certification and rating criteria of parts 61, 63, or 65 of this chapter, including practical test requirements, if it can be demonstrated that the newly established criteria or requirements represent an equivalent or better measure of crewmember or dispatcher competence, operational proficiency, and safety.

(b) The applicant satisfactorily completes the appropriate qualification curriculum.

(c) The applicant shows competence in required technical knowledge and skills (e.g., piloting or other) and crew resource management (e.g., CRM or DRM) knowledge and skills in scenarios (i.e., LOE) that test both types of knowledge and skills together.

(d) The applicant is otherwise eligible under the applicable requirements of part 61, 63, or 65 of this chapter.

(e) The applicant has been trained to proficiency on the certificate holder's approved AQP Qualification Standards as witnessed by an instructor, check airman, or APD and has passed an LOE administered by an APD or the FAA.

§ 121.921 Training devices and simulators.

(a) Each flight training device or airplane simulator that will be used in an AQP for one of the following purposes must be evaluated by the FAA for assignment of a flight training device or flight simulator qualification level:

(1) Required evaluation of individual or crew proficiency.

(2) Training to proficiency or training activities that determine if an individual or crew is ready for an evaluation of proficiency.

(3) Activities used to meet recency of experience requirements.

(4) Line Operational Simulations (LOS).

(b) Approval of other training equipment.

(1) Any training equipment that is intended to be used in an AQP for purposes other than those set forth in paragraph (a) of this section must be approved by the FAA for its intended use.

(2) An applicant for approval of training equipment under this paragraph must identify the device by its nomenclature and describe its intended use.

(3) Each training device approved for use in an AQP must be part of a continuing program to provide for its serviceability and fitness to perform its intended function as approved by the FAA.

§ 121.923 Approval of training, qualification, or evaluation by a person who provides training by arrangement.

(a) A certificate holder operating under part 121 or part 135 of this chapter may arrange to have AQP training, qualification, evaluation, or certification functions performed by another person (a “training provider”) if the following requirements are met:

(1) The training provider is certificated under part 119 or 142 of this chapter.

(2) The training provider's AQP training and qualification curriculums, curriculum segments, or portions of curriculum segments must be provisionally approved by the FAA. A training provider may apply for provisional approval independently or in conjunction with a certificate holder's application for AQP approval. Application for provisional approval must be made, through the FAA office directly responsible for oversight of the training provider, to the Manager of the Advanced Qualification Program.

(3) The specific use of provisionally approved curriculums, curriculum segments, or portions of curriculum segments in a certificate holder's AQP must be approved by the FAA as set forth in § 121.909.

(b) An applicant for provisional approval of a curriculum, curriculum segment, or portion of a curriculum segment under this paragraph must show the following requirements are met:

(1) The applicant must have a curriculum for the qualification and continuing qualification of each instructor and evaluator used by the applicant.

(2) The applicant's facilities must be found by the FAA to be adequate for any planned training, qualification, or evaluation for a certificate holder operating under part 121 or part 135 of this chapter.

(3) Except for indoctrination curriculums, the curriculum, curriculum segment, or portion of a curriculum segment must identify the specific make, model, and series aircraft (or variant) and crewmember or other positions for which it is designed.

(c) A certificate holder who wants approval to use a training provider's provisionally approved curriculum, curriculum segment, or portion of a curriculum segment in its AQP, must show the following requirements are met:

(1) Each instructor or evaluator used by the training provider must meet all the qualification and continuing qualification requirements that apply to employees of the certificate holder that has arranged for the training, including knowledge of the certificate holder's operations.

(2) Each provisionally approved curriculum, curriculum segment, or portion of a curriculum segment must be approved by the FAA for use in the certificate holder's AQP. The FAA will either provide approval or require modifications to ensure that each curriculum, curriculum segment, or portion of a curriculum segment is applicable to the certificate holder's AQP.

§ 121.925 Recordkeeping requirements.

Each certificate holder conducting an approved AQP must establish and maintain records in sufficient detail to demonstrate the certificate holder is in compliance with all the requirements of the AQP and this subpart.

PART 135—OPERATING REQUIREMENTS: COMMUTER AND ON DEMAND OPERATIONS AND RULES GOVERNING PERSONS ABOARD SUCH AIRCRAFT

13. The authority citation for part 135 continues to read as follows:

Authority: 49 U.S.C. 106(g), 40113, 44701-44702, 44705, 44709, 44711-44713, 44715-44717, 44722.

SFAR No. 58 [Removed]

14. Remove SFAR No. 58 from part 135.

§ 135.1 [Amended]

15. Amend § 135.1(a)(4) by removing “SFAR No. 58” and adding “subpart Y of part 121 of this chapter” in its place each place it appears.

Issued in Washington, DC on September 7, 2005.
Marion C. Blakey,
Administrator.

[FR Doc. 05-18342 Filed 9-15-05; 8:45 am]

BILLING CODE 4910-13-P